DEPARTMENT OF ENERGY

Federal Energy Regulatory Commission

Combined Notice of Filings

Take notice that the Commission has received the following Natural Gas Pipeline Rate and Refund Report filings:

Filings Instituting Proceedings

Docket Numbers: RP14-751-000

Applicants: Gulfstream Natural Gas System, L.L.C.

Description: GNGS—Order to show cause—RP14-442-000

Filed Date: 4/21/14

Accession Number: 20140421-5099

Comments Due: 5 p.m. ET 5/5/14

Docket Numbers: RP14-752-000

Applicants: Bobcat Gas Storage

Description: BGS RP14-442-000 Show Cause Compliance Filing

Filed Date: 4/21/14

Accession Number: 20140421-5100

Comments Due: 5 p.m. ET 5/5/14

Docket Numbers: RP14-753-000

Applicants: Egan Hub Storage, LLC

Description: Egan RP14-442-000 Show Cause Compliance Filing

Filed Date: 4/21/14

Accession Number: 20140421-5101

Comments Due: 5 p.m. ET 5/5/14

Docket Numbers: RP14-754-000

Applicants: East Tennessee Natural Gas, LLC

Description: ETNG RP14-442-000 Show Cause Compliance Filing

Filed Date: 4/21/14

Accession Number: 20140421-5102

Comments Due: 5 p.m. ET 5/5/14

Docket Numbers: RP14-755-000

Applicants: Saltville Gas Storage Company L.L.C.

Description: SGSC RP14-442-000 Show Cause Compliance Filing

Filed Date: 4/21/14

Accession Number: 20140421-5103

Comments Due: 5 p.m. ET 5/5/14

Docket Numbers: RP14-756-000

Applicants: Ozark Gas Transmission, L.L.C.

Description: OGT RP14-442-000 Show Cause Compliance Filing to be effective 5/22/2014

Filed Date: 4/21/14

Accession Number: 20140421-5104

Comments Due: 5 p.m. ET 5/5/14

Docket Numbers: RP14-757-000

Applicants: Maritimes & Northeast Pipeline, L.L.C.

Description: MNUS—Order to show cause—RP14-442-000

Filed Date: 4/21/14

Accession Number: 20140421-5105

Comments Due: 5 p.m. ET 5/5/14

Docket Numbers: RP14-758-000

Applicants: Southeast Supply Header, LLC

Description: SESH—Order to show cause—RP14-442-000

Filed Date: 4/21/14

Accession Number: 20140421-5106

Comments Due: 5 p.m. ET 5/5/14

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-993-004

Applicants: Transcontinental Gas Pipe Line Company,

Description: Rate Case Settlement Refund Report

Filed Date: 4/21/14

Accession Number: 20140421-5098

Comments Due: 5 p.m. ET 5/5/14

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 22, 2014.
Nathaniel J. Davis, Sr.,
Deputy Secretary.

[FR Doc. 2014-10087 Filed 5-1-14; 8:45 am]

BILLING CODE 6717-01-P